DEPARTMENT OF THE INTERIOR

Bureau of Reclamation

[RR43100000, 16XR0680A1, RX002361010021000]

Notice To Extend the Public Comment Period and Change Point of Contact for the Draft Environmental Impact Statement for the Continued Implementation of the 2008 Operating Agreement for the Rio Grande Project, New Mexico and Texas

AGENCY: Bureau of Reclamation, Interior.

ACTION: Notice of extension.

SUMMARY: The Bureau of Reclamation is extending the public comment period for the Draft Environmental Impact Statement (EIS) on continuing to implement the 2008 Operating Agreement for the Rio Grande Project (Operating Agreement), and to implement long-term contracts for storage of San Juan-Chama Project water in Elephant Butte Reservoir, to Wednesday, June 8, 2016. The Notice of Availability and Notice of Public Hearings for the Draft Environmental Impact Statement was published in the Federal Register on March 18, 2016 (81 FR 14886). The public comment period for the Draft EIS was originally scheduled to end on Monday, May 9, 2016.

DATES: Comments on the Draft EIS will be accepted until close of business on Wednesday, June 8, 2016.

ADDRESSES: Reclamation has changed the point of contact for this Draft EIS. Please send written comments to Ms. Nancy Coulam, Bureau of Reclamation, 125 South State Street, Room 8100, Salt Lake City, Utah 84138-1147; or via email to ncoulam@usbr.gov.

FOR FURTHER INFORMATION CONTACT: Ms. Nancy Coulam, EIS Project Manager, Bureau of Reclamation, via email at ncoulam@usbr.gov, or at (801) 524-3684.

SUPPLEMENTARY INFORMATION: In response to two requests for an extension, the Bureau of Reclamation is extending the close of the public comment period for the Draft EIS to Wednesday, June 8, 2016.

Public Disclosure

Before including your address, phone number, email address, or other personal identifying information in your comment, you should be aware that your entire comment—including your personal identifying information—may be made publicly available at any time. While you can ask us in your comment to withhold your personal identifying information from public review, we cannot guarantee that we will be able to do so.

Dated: April 27, 2016.
Brent Rhees,
Regional Director.

[FR Doc. 2016-10526 Filed 5-4-16; 8:45 am]

BILLING CODE 4332-90-P